DEPARTMENT OF TRANSPORTATION

Office of the Secretary

Aviation Proceedings, Agreements Filed the Week Ending May 16, 2009

The following Agreements were filed with the Department of Transportation under the Sections 412 and 414 of the Federal Aviation Act, as amended (49 U.S.C. 1383 and 1384) and procedures governing proceedings to enforce these provisions. Answers may be filed within 21 days after the filing of the application.

Docket Number: DOT-OST-2009-0113.

Date Filed: May 11, 2009.

Parties: Members of the International Air Transport Association.

Subject: CSC/31/Meet/005/09 dated April 8, 2009. Finally Adopted Resolutions: Resolution 623 and Recommended Practice 1630. Intended effective date: 1 October 2009.

Renee V. Wright,
Program Manager, Docket Operations, Federal Register Liaison.

[FR Doc. E9-12576 Filed 5-28-09; 8:45 am]

BILLING CODE 4910-9X-P